NUCLEAR REGULATORY COMMISSION

Sunshine Act Meeting

Agency Holding the Meeting: Nuclear Regulatory Commission.

Date: Weeks of December 6, 13, 20, 27, January 3, 10, 2004.

Place: Commissioners' Conference Room, 11555 Rockville Pike, Rockville, Maryland.

Status: Public and Closed.

Matters To Be Considered: Week of December 6, 2004

Tuesday, December 7, 2004

9:30 a.m. Briefing on Equal Employment Opportunity (EEO) Program (Public Meeting) (Contact: Corenthis Kelley, (301) 415-7380).

This meeting will be webcast live at the Web address— http://www.nrc.gov.

Wednesday, December 8, 2004

12:55 p.m. Affirmation Session (Public Meeting) (Tentative)

a. Motion to Quash OI Subpoena (Tentative)

b. Duke Energy Corp. (Catawba Nuclear Station, Units 1 and 2); Intervenor's Motion for Reconsideration of CLI-04-29 (Tentative)

c. SECY-04-0180—Hydro Resources, Inc. (Rio Rancho, New Mexico) Review of LBP-04-3 (Financial Assurance) (Tentative)

d. SECY-04-0190—Final Rule: Security Requirements for Portable Gauges Containing Byproduct Material (RIN 3150-AH06) (Tentative)

e. SECY-04-0208—Louisiana Energy Services, L.P. (National Enrichment Facility) (Tentative)

f. SECY-04-0212—Dominion Nuclear Connecticut, Inc., (Millstone Nuclear Power Station, Units 2 and 3), Docket Nos. 50-336-LR & 50-423-LR; LBP-04-15, 60 NRC 81, LBP-04-22 (Tentative)

1 p.m. Briefing on Status of Davis Besse Lessons Learned Task Force Recommendations (Public Meeting) (Contact: John Jolicoeur, (301) 415-1724)

This meeting will be webcast live at the Web address— http://www.nrc.gov.

Thursday, December 9, 2004

2 p.m. Briefing on Reactor Safety and Licensing Activities (Public Meeting) (Contact: Steve Koenick, 301-415-1239).

This meeting will be webcast live at the Web address— http://www.nrc.gov.

Week of December 13, 2004—Tentative

Tuesday, December 14, 2004

1 p.m. Briefing on Emergency Preparedness Program Initiatives (Public Meeting) (Contact: Nader Mamish, (301) 415-1086).

This meeting will be webcast live at the Web address— http://www.nrc.gov.

Week of December 20, 2004—Tentative

There are no meetings scheduled for the Week of December 20, 2004.

Week of December 27, 2004—Tentative

There are no meetings scheduled for the Week of December 27, 2004.

Week of January 3, 2005—Tentative

There are no meetings scheduled for the Week of January 3, 2005.

Week of January 10, 2005—Tentative

There are no meetings scheduled for the Week of January 10, 2005.

*The schedule for Commission meetings is subject to change on short notice. To verify the status of meetings call (recording)—(301) 415-1292. Contact person for more information: Dave Gamberoni, (301) 415-1651.

* * * * *

The NRC Commission Meeting Schedule can be found on the Internet at: http://www.nrc.gov/what-we-do/policy-making/schedule.html.

* * * * *

The NRC provides reasonable accommodation to individuals with disabilities where appropriate. If you need a reasonable accommodation to participate in these public meetings, or need this meeting notice or the transcript or other information from the public meetings in another format (e.g., braille, large print), please notify the NRC's Disability Program Coordinator, August Spector, at (301) 415-7080, TDD: (301) 415-2100, or by e-mail at aks@nrc.gov. Determinations on requests for reasonable accommodation will be made on a case-by-case basis.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dave Gamberoni,
Office of the Secretary.

[FR Doc. 04-26899 Filed 12-3-04; 9:27 am]

BILLING CODE 7590-01-M